DEPARTMENT OF HEALTH AND HUMAN SERVICES

Agency for Healthcare Research and Quality

Notice of Meetings

In accordance with section 10(d) of the Federal Advisory Committee Act as amended (5 U.S.C., Appendix 2). The Agency for Healthcare Research and Quality (AHRQ) announces meetings of scientific peer review groups. The subcommittees listed below are part of the Agency's Health Services Initial Review Group Committee.

The subcommittee meetings will be closed to the public in accordance with the Federal Advisory Committee Act, section 10(d) of 5 U.S.C., Appendix 2 and 5 U.S.C., 552b(c)(6). Grant applications are to be reviewed and discussed at these meetings. These discussions are likely to reveal personal information concerning individuals associated with the applications. This information is exempt from mandatory disclosure under the above-cited statutes.

1. Name of Subcommittee: Health Care Technology and Decision Sciences.

Date: June 1-2, 2000 (Open from 8 a.m. to 8:15 a.m. and closed for remainder of the meeting).

Place: AHRQ, Executive Office Center, 6010 Executive Boulevard, 4th Floor Conference Center, Rockville, Maryland 20852.

2. Name of Subcommittee: Health Systems Research.

Date: June 8-9, 2000 (Open from 8 a.m. to 8:15 a.m. and closed for remainder of the meeting).

Place: AHRQ, Executive Office Center, 6010 Executive Boulevard, 4th Floor Conference Center, Rockville, Maryland 20852.

3. Name of Subcommittee: Health Care Quality and Effectiveness Research.

Date: June 22-23, 2000 (Open from 8 a.m. to 8 15 a.m. and closed for remainder of the meeting).

Place: Willshire Grand Hotel & Centre, Willshire Boulevard, Los Angeles, California 90017.

4. Name of Subcommittee: Health Care Research Training.

Date: July 20-21, 2000 (Open from 8 a.m. to 8:15 a.m. and closed for remainder of the meeting).

Place: AHRQ, Executive Office Center, 6010 Executive Boulevard, 4th Floor Conference Center, Rockville, Maryland 20852.

Contact Person: Anyone wishing to obtain a roster of members or minutes of the meetings should contact Ms. Jenny Griffith, Committee Management Officer, Office of Research Review, Education and Policy, AHRQ, 2101 East Jefferson Street, Suite 400, Rockville, Maryland 20852, Telephone (301) 594-1847.

Agenda items for these meetings are subject to change as priorities dictate.

Dated: April 14, 2000.
John M. Eisenberg,
Director.

[FR Doc. 00-10113 Filed 4-21-00; 8:45 am]

BILLING CODE 4160-90-M